DEPARTMENT OF EDUCATION

Applications for New Awards; Statistical and Research Methodology in Education and Using Longitudinal Data To Support State Education Policymaking Grant Programs

AGENCY: Institute of Education Sciences, Department of Education.

ACTION: Notice.

SUMMARY: The Department of Education (Department) is issuing a notice inviting applications for new awards for fiscal year (FY) 2021 for the Statistical and Research Methodology in Education and the Using Longitudinal Data to Support State Education Policymaking Grant Programs, Catalog of Federal Domestic Assistance (CFDA) numbers 84.305D and 84.305S. This notice relates to the approved information collection under OMB control number 4040-0001.

DATES:

Applications Available: May 7, 2020.

Deadline for Transmittal of Applications: July 30, 2020.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: For the Statistical and Research Methodology in Education competition (84.305D): Phill Gagne, U.S. Department of Education, 550 12th Street SW, Room 4122, Potomac Center Plaza, Washington, DC 20202. Telephone: (202) 245-7139. Email: Phill.Gagne@ed.gov. For the Using Longitudinal Data to Support State Education Policymaking competition (84.305S): Allen Ruby, U.S. Department of Education, 500 12th Street SW, Room 4148, Potomac Center Plaza, Washington, DC 20202. Telephone: (202) 245-8145. Email: Allen.Ruby@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Through the National Center for Education Research (NCER), the Institute of Education Sciences (Institute) provides support for programs of research in areas of demonstrated national need. The Institute's research grant programs are designed to provide interested individuals and the general public with reliable and valid information about education practices that support learning and improve academic achievement and access to education opportunities for all learners. Through the Statistical and Research Methodology in Education grant program, NCER intends to support the development of a wide range of methodological and statistical tools to better enable applied education scientists to conduct rigorous education research. Through the Using Longitudinal Data to Support State Education Policymaking grant program, NCER intends to expand the research use of State Longitudinal Data Systems to examine long-term learner outcomes and pathways in order to provide evidence for State education policymaking.

Competitions in This Notice: The Institute's NCER is announcing two competitions—one competition in statistical and research methodology in education and one competition in using longitudinal data to support State education policymaking.

The Statistical and Research Methodology in Education Competition. Under this ccompetition, NCER will consider only applications that address one of the following topics:

• Statistical and Research Methodology Grants.

• Early Career Statistical and Research Methodology Grants.

Using Longitudinal Data to Support State Education Policymaking. Under this competition, NCER will consider only applications that expand the research use of State Longitudinal Data Systems (SLDS) to provide evidence for State education policymaking. Through this new grant program, IES will increase its support for the research use of SLDS beyond its ongoing research grants program and Grants for Statewide Longitudinal Data Systems.

Exemption from Proposed Rulemaking: Under section 191 of the Education Sciences Reform Act, 20 U.S.C. 9581, the Institute is not subject to section 437(d) of the General Education Provisions Act, 20 U.S.C. 1232(d), and is therefore not required to offer interested parties the opportunity to comment on priorities, selection criteria, definitions, and requirements.

Program Authority: 20 U.S.C. 9501 et seq.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, 75.230, and 75.708. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

Note: The open licensing requirement in 2 CFR 3474.20 does not apply for these competitions.

II. Award Information

Types of Awards: Discretionary grants and cooperative agreements.

Fiscal Information: Although Congress has not yet enacted an appropriation for FY 2021, the Institute is inviting applications for these competitions now so that applicants can have adequate time to prepare their applications. The actual level of funding, if any, depends on final congressional action. The Department will announce additional competitions later in FY 2020.

Estimated Range of Awards: For the Statistical and Research Methodology in Education competition (84.305D): $40,000 to $300,000. For the Using Longitudinal Data to Support State Education Policymaking competition (84.305S): $40,000 to $333,000. The size of the awards will depend on the scope of the projects proposed.

Estimated Number of Awards: The number of awards made under each competition will depend on the quality of the applications received and the availability of funds.

Contingent on the availability of funds and the quality of applications, we may make additional awards in FY 2022 from the list of highly-rated unfunded applications from the FY 2021 competitions.

Note: The Department is not bound by any estimates in this notice.

Project Period: Up to 36 months.

III. Eligibility Information

1. Eligible Applicants: For the Statistical and Research Methodology in Education grant program, applicants that have the ability and capacity to conduct scientifically valid research are eligible to apply. These include, but are not limited to, nonprofit and for-profit organizations and public and private agencies and institutions of higher education, such as colleges and universities. For the Using Longitudinal Data to Support State Education Policymaking grant program, eligible applicants must be a State educational agency (SEA), defined as a State or Territory's K-12 authority, alone, or in conjunction with research organizations such as universities and research firms, and/or with other appropriate organizations (such as other State agencies or local educational agencies). The SEA must be the grantee and must provide the Principal Investigator.

2. Cost Sharing or Matching: These programs do not require cost sharing or matching.

3. Subgrantees: Under 34 CFR 75.708(b) and (c) a grantee under this competition may award subgrants—to directly carry out project activities described in its application—to the following types of entities: Nonprofit and for-profit organizations and public and private agencies and institutions of higher education. The grantee may award subgrants to entities it has identified in an approved application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Other Information: Information regarding program and application requirements for the competitions will be contained in the NCER Requests for Applications (RFAs), which will be available on or before April 1, 2020 on the Institute's website at: https://ies.ed.gov/funding/. Application packages for these competitions will be available on May 7, 2020.

3. Content and Form of Application Submission: Requirements concerning the content of an application are contained in the RFA for the specific competition. The forms that must be submitted are in the application package for the specific competition.

4. Submission Deadline: July 30, 2020 11:59:59 p.m. Eastern Time.

We do not consider an application that does not comply with the deadline requirements.

5. Intergovernmental Review: These competitions are not subject to Executive Order 12372 and the regulations in 34 CFR part 79.

6. Funding Restrictions: We reference regulations outlining funding restrictions in the Applicable Regulations section of this notice.

V. Application Review Information

1. Selection Criteria: For all of its grant competitions, the Institute uses selection criteria based on a peer-review process that has been approved by the National Board for Education Sciences. The Peer Review Procedures for Grant Applications can be found on the Institute's website at https://ies.ed.gov/director/sro/peer_review/application_review.asp.

For the 84.305D competition, peer reviewers will be asked to evaluate the significance of the application, the quality of the research plan, the qualifications and experience of the personnel, the resources of the applicant to support the proposed activities, and the quality of the dissemination history and dissemination plan. These criteria are described in greater detail in the RFA.

For the 84.305S competition, peer reviewers will be asked to evaluate the significance of the application, the quality of the research plan, the applicability and availability of the data to be analyzed, and the quality of the plans to disseminate and use the findings in State decision-making. These criteria are described in greater detail in the RFA.

For all of the Institute's competitions, applications should include budgets no higher than the relevant maximum award as set out in the relevant RFA. For the Statistical and Research Methodology in Education competition, the maximum award for the Regular Grants is $900,000 and the maximum award for the Early Career Grants is $225,000. For the Using Longitudinal Data to Support State Education Policymaking competition, the maximum award is $1,000,000. The Institute will not make an award exceeding the maximum award amount.

2. Review and Selection Process: We remind potential applicants that in reviewing applications in any discretionary grant competition, the Institute may consider, under 34 CFR 75.217(d)(3), the past performance of the applicant in carrying out a previous award, such as the applicant's use of funds, achievement of project objectives, and compliance with grant conditions. The Institute may also consider whether the applicant failed to submit a timely performance report or submitted a report of unacceptable quality.

In addition, in making a competitive grant award, the Institute also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under these competitions, the Department conducts a review of the risks posed by applicants. Under 2 CFR 3474.10, the Institute may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual two-day meeting for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by the Institute. If you receive a multiyear award, you must submit an annual performance report that provides the most current performance and financial expenditure information as directed by the Institute under 34 CFR 75.118. The Institute may also require more frequent performance reports under 34 CFR 75.720(c). For specific requirements on reporting, please go to www.ed.gov/fund/grant/apply/appforms/appforms.html.

5. Performance Measures: To evaluate the overall success of its education research grant programs, the Institute annually assesses the percentage of projects that result in peer-reviewed publications and the number of Institute-supported interventions with evidence of efficacy in improving learner education outcomes.

6. Continuation Awards: In making a continuation award under 34 CFR 75.253, the Institute considers, among other things: Whether a grantee has made substantial progress in achieving the goals and objectives of the project; whether the grantee has expended funds in a manner that is consistent with its approved application and budget; and, if the Institute has established performance measurement requirements, whether the grantee has met the performance targets in the grantee's approved application.

In making a continuation award, the Institute also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the RFA in an accessible format (e.g., braille, large print, audiotape, or compact disc) on request to the appropriate program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Schneider,
Director, Institute of Education Sciences.

[FR Doc. 2020-06255 Filed 3-24-20; 8:45 am]

BILLING CODE 4000-01-P